DEPARTMENT OF THE INTERIOR

Bureau of Land Management

[BLM_CA_FRN_MO4500170074]

Notice of Intent To Prepare an Environmental Impact Statement for the Proposed Mojave Precious Metals Exploratory Drilling Project, Ridgecrest, Inyo County, CA

AGENCY: Bureau of Land Management, Interior.

ACTION: Notice of intent.

SUMMARY: In compliance with the National Environmental Policy Act of 1969, as amended (NEPA), and the Federal Land Policy and Management Act of 1976, as amended (FLPMA), the Bureau of Land Management (BLM) Ridgecrest Field Office, Ridgecrest, California intends to prepare an environmental impact statement (EIS) to consider the effects of the proposed Mojave Precious Metals Exploratory Drilling Project in Inyo County, California, and by this notice is announcing the beginning of the scoping process to solicit public comments and identify issues.

DATES: This notice initiates the public scoping process for the EIS. The BLM requests that the public submit comments concerning the scope of the analysis, potential alternatives, and identification of relevant information, and studies by October 10, 2023. To afford the BLM the opportunity to consider comments in the Draft EIS, please ensure your comments are received prior to the close of the 60-day scoping period.

ADDRESSES: You may submit comments related to the Mojave Precious Metals Exploratory Drilling Project by any of the following methods:

• Website: https://eplanning.blm.gov/eplanning-ui/project/2022050/510.

• Email: BLM_CA_RI_MojavePMetals@blm.gov.

• Fax: (760) 384-5499.

• Mail: BLM Ridgecrest Field Office, Attn: Mojave Exploration Project, 300 S. Richmond Rd., Ridgecrest, CA 93555.

Documents pertinent to this proposal may be examined online at https://eplanning.blm.gov/eplanning-ui/project/2022050/510 and at the BLM Ridgecrest Field Office during regular business hours.

FOR FURTHER INFORMATION CONTACT: Tamara Faust, Project Manager, telephone: (505) 427-6759; address: Bureau of Land Management Ridgecrest Field Office, 300 S. Richmond Rd., Ridgecrest, CA 93555; email BLM_CA_RI_MojavePMetals@blm.gov. Contact Ms. Faust to have your name added to our mailing list. Individuals in the United States who are deaf, deafblind, hard of hearing, or have a speech disability may dial 711 (TTY, TDD, or TeleBraille) to access telecommunications relay services for contacting Ms. Faust. Individuals outside the United States should use the relay services offered within their country to make international calls to the point-of-contact in the United States.

SUPPLEMENTARY INFORMATION:

Purpose and Need for the Proposed Action

The BLM's need for the action is established by FLPMA, 43 U.S.C. 1732(b), and the surface management regulations promulgated under the authority of FLPMA, 43 CFR subpart 3809. The BLM's purpose is to provide Mojave Precious Metals, Inc. (MPM) with the opportunity to explore its existing mining claims on BLM-managed lands, while ensuring compliance with applicable land management plans, protection of resources, and compliance with Federal and State laws related to environmental protection (e.g., 43 CFR 3809.420).

Preliminary Proposed Action and Alternatives

MPM proposes an exploratory drilling plan of operations modification (Plan Modification) on public lands. The plan would modify the 2018 approved plan of operations that was originally submitted by Silver Standard US Holdings, Inc. and reviewed under NEPA in a 2017 environmental assessment (DOI-BLM-CA-0050-2017-0037-EA; Perdito Exploration Project). The Plan Modification is for additional exploratory drilling activities within a portion of its mining claims termed the “Mojave Property” and would require development of additional access routes. The Plan Modification would include 25 additional drill sites and reopening a reclaimed access road. The project is in conformance with the California Desert Conservation Area Plan, as amended.

The Mojave Property is located near Conglomerate Mesa in west-central Inyo County, approximately 3.4 miles east of Keeler, California, and 15.5 miles (25 km) southeast of Lone Pine, California. The property is located within Township 16 and 17 south, Range 38 and 39 east, San Bernardino Base and Meridian. The project would access and drill up to 30 drill sites with a total estimated 120 boreholes, each averaging 300 meters (984 feet) below ground surface. The plan would access the drill sites along a combination of overland travel and reconstruction of about 7 miles of previously developed (now reclaimed) roads. The total amount of land disturbed by the drilling program would be up to 15 acres. The project would be limited to exploration activities; no mining or processing of minerals is proposed. The project would be completed within 5 to 10 months and reclamation would be completed within 3 years.

Any hydrocarbons and petroleum lubricants used on site would be stored on the equipment, and fueling of equipment would be done with mobile fuel/lube trucks. Diesel fuel used on the site would comply with California Air Resources Board low-sulfur diesel requirements. Spills would be managed and contained according to the project's spill contingency plan. An estimated 500 to 1,000 gallons of water would be required per day. Water would be supplied from a permitted/authorized source and delivered via water truck by a licensed commercial delivery service. Portable water storage tanks would be kept on site for drilling, dust suppression, and firefighting assistance.

Reclamation of disturbed areas resulting from mining operations would be completed in accordance with BLM and the California Surface Mining Control and Regulation Act of 1975 regulations. Reclamation activities would include the following:

• Plugging of boreholes;

• Regrading and reshaping of disturbed topography to approximate the original contour;

• Restoring existing public roads in project area to pre-project conditions;

• Rehabilitating wildlife habitat;

• Revegetating disturbed areas;

• Removing equipment and temporary and mobile support facilities; and

• Monitoring and maintenance.

A range of reasonable alternatives will be developed and analyzed in the EIS after considering information received during the scoping period. Preliminary action alternatives include using an alternative route with less ground disturbance. The range of reasonable alternatives will include a no action alternative, under which the BLM would deny the Plan Modification and MPM's Exploratory Drilling Plan of Operations would remain as analyzed in the original environmental assessment. The BLM welcomes comments on all preliminary alternatives as well as suggestions for additional alternatives, including the feasibility of using a helicopter alternative to satisfy the objectives of the project.

Summary of Expected Impacts

Preliminary issues, either beneficial or adverse and of varying intensity, for the Project have been identified by BLM personnel and in consultation with Federal, State, and local agencies, Tribes, and other cooperating agencies. These preliminary issues include potential impacts to:

• Cultural resources;

• Biological resources, including Joshua trees and the Inyo thread plant;

• Special designations, including California Desert National Conservation Lands and the Conglomerate Mesa Area of Critical Environmental Concern; and

• Water resources.

The public scoping process will guide determination of relevant issues that will influence the scope of the environmental analysis, including alternatives and mitigation measures. The EIS will identify and describe the effects of the proposed action and alternatives on the human environment. The BLM also requests the identification of potential impacts that should be analyzed. Impacts should be a result of the action; therefore, please identify the activity along with the potential impact.

Anticipated Permits and Authorizations

In addition to the requested authorization to perform mineral exploration under a mining plan of operations, other Federal, State, and local authorizations will be required for the project. These include authorizations under the Bald and Golden Eagle Protection Act, the Endangered Species Act, Clean Water Act, and other laws and regulations determined to be applicable to the project.

Schedule for the Decision-Making Process

The BLM will provide additional opportunities for public participation consistent with the NEPA process, including a 60-day comment period on the Draft EIS. The Draft EIS is anticipated to be available for public review in Fall/Winter 2023, and the Final EIS is anticipated to be released in Summer 2024 with a record of decision (ROD) in Fall 2024.

Public Scoping Process

This notice of intent initiates the scoping period. The BLM will accept public scoping comments via letter or email. Should the BLM decide to hold public meetings, the specific date(s) and location(s) of any meeting will be announced in advance through public notices, media releases, mailings, and the BLM website (see ADDRESSES).

Lead and Cooperating Agencies

The National Park Service has agreed to participate in the development of the EIS as a cooperating agency. Inyo County is also a cooperating agency. Federal, State, and local agencies, along with Indian Tribal Nations and stakeholders that may be interested in or affected by the proposed Mojave Precious Metals Exploratory Drilling Project that the BLM is evaluating, are invited to participate in the scoping process and, if eligible, may request or be requested by the BLM to participate in the development of the environmental analysis as a cooperating agency.

Responsible Official

The BLM California Ridgecrest Field Manager is the responsible official who will make the decisions below.

Nature of Decision To Be Made

The BLM will use the analysis in the EIS to inform the following: whether to approve, approve with conditions, or deny the applicant's proposed Plan Modification. The BLM may: (a) decide to approve the complete Plan Modification; (b) approve the Plan Modification subject to certain conditions imposed to ensure the operation meets the performance standards and does not result in unnecessary or undue degradation (UUD); or (c) disapprove or withhold approval of the Plan Modification. The ROD will explain how the selected alternative meets the requirement to prevent UUD and is in conformance with the applicable land use plans.

Additional Information

The BLM will identify, analyze, and consider mitigation to address the reasonably foreseeable impacts to resources from the proposed action and all analyzed reasonable alternatives and, in accordance with 40 CFR 1502.14(e), include appropriate mitigation measures not already included in the proposed action or alternatives. Mitigation may include avoidance, minimization, rectification, reduction or elimination over time, and compensation, and may be considered at multiple scales, including the landscape scale.

The BLM will utilize and coordinate the NEPA process to help support compliance with applicable procedural requirements under the Endangered Species Act (16 U.S.C. 1536) and Section 106 of the National Historic Preservation Act (54 U.S.C. 306108) as provided in 36 CFR 800.2(d)(3), including public involvement requirements of Section 106. The information about historic and cultural resources and threatened and endangered species within the area potentially affected by the proposed plan will assist the BLM in identifying and evaluating impacts to such resources. The BLM is the lead Federal agency for this EIS and the related National Historic Preservation Act Section 106 process and Endangered Species Act consultation process.

The BLM will consult with Indian Tribal Nations on a government-to-government basis in accordance with Executive Order 13175, BLM MS 1780, and other Departmental policies. Tribal concerns, including impacts on Indian trust assets and potential impacts to cultural resources, will be given due consideration. The BLM intends to hold a series of government-to-government consultation meetings. The BLM will send invitations to potentially affected Tribal Nations prior to the meetings. The BLM will provide additional opportunities for government-to-government consultation during the NEPA process.

Before including your address, phone number, email address, or other personal identifying information in your comment, you should be aware that your entire comment—including your personal identifying information—may be made publicly available at any time. While you can ask us in your comment to withhold your personal identifying information from public review, we cannot guarantee that we will be able to do so.

Authority: 40 CFR 1501.9.

Thomas Bickauskas,
Bureau of Land Management Ridgecrest Field Manager (Acting).

[FR Doc. 2023-17297 Filed 8-15-23; 8:45 am]

BILLING CODE 4331-15-P